DEPARTMENT OF STATE

[Public Notice 10967]

Designation of Iranian Entity Pursuant to Executive Order 13382

ACTION: Notice of Designation.

SUMMARY: Pursuant to the authority in Section 1(ii) of Executive Order 13382, “Blocking Property of Weapons of Mass Destruction Proliferators and Their Supporters,” the State Department, in consultation with the Secretary of the Treasury and the Attorney General, has determined that Mahan Air engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern.

DATES: Mahan Air was designated pursuant to Executive Order 13382 on December 11, 2019.

FOR FURTHER INFORMATION CONTACT: Harry Thompson, Office of Counterproliferation Initiatives, Bureau of International Security and Nonproliferation, Department of State, Washington, DC 20520, tel.: 202-736-7065.

SUPPLEMENTARY INFORMATION: On June 28, 2005, the President, invoking the authority, inter alia, of the International Emergency Economic Powers Act (50 U.S.C. 1701-1706) (“IEEPA”), issued Executive Order 13382 (70 CFR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery, including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

Information on the designees is as follows:

Mahan Air

Also Known As: Mahan Air Co.

Location:

(a) No. 21, Mahan Air Tower, Azadegan Street, Jenah Expressway, Beginning of Sheykh Fazlollah Exp. Way, First of Karaj High Way, Tehran, 1481655761, Iran (Islamic Republic of)

(b) Mahan Air Tower, 21st Floor, Azadeghan Street, Karaj Highway, P.O. Box 14515-411, Tehran, Iran (Islamic Republic of)

(c) Mahan Air Tower, Azadegan St., Karaj Highway, P.O. Box 411-14515, Tehran, 1481655761, Iran (Islamic Republic of)

Gonzalo O. Suarez,
Acting Deputy Assistant Secretary, International Security and Non-Proliferation, Department of State.

[FR Doc. 2020-00815 Filed 1-17-20; 8:45 am]

BILLING CODE 4710-27-P